DEPARTMENT OF ENERGY

Federal Energy Regulatory Commission

[Docket No. EC02-11-000]

Orion Power Holdings, Inc., Astoria Generating Company, L.P., Carr Street Generating Station, L.P., Erie Boulevard Hydropower, L.P., Orion Power MidWest, L.P., Twelvepole Creek, LLC, Liberty Electric Power, LLC, Reliant Resources, Inc., and Reliant Energy Power Generation Merger Sub, Inc.; Orion Power Holdings, Inc., et al; Notice of Filing

October 30, 2001.

Take notice that on October 22, 2001, Orion Power Holdings, Inc. (Orion Power Holdings), Astoria Generating Company, L.P. (Astoria), Carr Street Generating Station, L.P. (Carr Street), Erie Boulevard Hydropower, L.P. (Erie Boulevard), Orion Power MidWest, L.P. (Orion Power MidWest), Twelvepole Creek, LLC (Twelvepole Creek), Liberty Electric Power, LLC (Liberty Electric), Reliant Resources, Inc. (Reliant Resources), and Reliant Energy Power Generation Merger Sub, Inc. (Merger Sub) (collectively, Applicants) filed with the Federal Energy Regulatory Commission (Commission) an application pursuant to section 203 of the Federal Power Act for authorization of the disposition of the jurisdictional facilities of Astoria, Carr Street, Erie Boulevard, Orion Power MidWest, Twelvepole Creek, and Liberty Electric, subsidiaries of Orion Power Holdings, that will occur as a result of the merger of Merger Sub, a wholly-owned subsidiary of Reliant Resources, into Orion Power Holdings (the Transaction). After the Transaction, each share of stock in the Merger Sub will convert into stock of Orion Power Holdings, and each share of Orion Power Holdings' current outstanding common stock will be converted into the right to receive cash. Orion Power Holdings will be the surviving entity, and will become a wholly-owned subsidiary of Reliant Resources. Thus, the Transaction will result in Reliant Resources' indirect acquisition of Orion Power Holdings, its subsidiaries, and its subsidiaries' jurisdictional facilities.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before December 21, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27896 Filed 11-6-01; 8:45 am]

BILLING CODE 6717-01-P